DEPARTMENT OF COMMERCE

International Trade Administration

[C-535-001]

Cotton Shop Towels From Pakistan: Final Results of Countervailing Duty Administrative Review

AGENCY: Import Administration, International Trade Administration, Department of Commerce.

ACTION: Notice of final results of countervailing duty administrative review.

SUMMARY: On April 9, 2001, the Department of Commerce (the Department) published in the Federal Register its preliminary results of administrative review of the countervailing duty order on cotton shop towel from Pakistan for the period January 1, 1999, through December 31, 1999. See Cotton Shop Towels From Pakistan: Preliminary Results and Partial Rescission of Countervailing Duty Administrative Review, 66 FR 18444 (April 9, 2001) (Preliminary Results).

Based on our analysis of the comments received, we have not made changes to the net subsidy rates. Therefore, the final results do not differ from the preliminary results. The final net subsidy rates for the reviewed companies are listed below in the section entitled “Final Results of Review.”

EFFECTIVE DATE: August 13, 2001.

FOR FURTHER INFORMATION CONTACT: Gayle Longest at (202) 482-3338 or Mark Young at (202) 482-6397, Office of AD/CVD Enforcement VI, Group II, Import Administration, International Trade Administration, U.S. Department of Commerce, Room 4012, 14th Street and Constitution Avenue, NW., Washington, DC 20230.

SUPPLEMENTARY INFORMATION:

The Applicable Statute and Regulations

Unless otherwise indicated, all citations to the statute are references to the provisions effective January 1, 1995, the effective date of the amendments made to the Tariff Act of 1930 (the Act) by the Uruguay Round Agreements Act (URAA). In addition, unless otherwise indicated, all citations to the Department's regulations are to the regulations codified at 19 CFR Part 351 (2000).

Background

On April 9, 2001, the Department published its preliminary results of administrative review of the countervailing duty order on cotton shop towels from Pakistan. See Preliminary Results. This review covers 11 manufacturers/exporters, Mehtabi Towel Mills Ltd. (Mehtabi), Shahi Textiles (Shahi), Silver Textile Factory (Silver), Universal Linen (Universal), United Towel Exporters (United), R.I. Weaving (R.I.), Fine Fabrico (Fabrico), Ejaz Linen (Ejaz), Quality Linen Supply Corp. (Quality), Jawwad Industries (Jawwad), and Ahmed & Co. (Ahmed). The review covers the period January 1, 1999, through December 31, 1999, and seven programs.

Scope of the Review

The merchandise subject to this review is cotton shop towels. The product covered in this review is provided for under item number 6307.10.20 of the Harmonized Tariff Schedule of the United States (HTSUS). The HTSUS subheadings are provided for convenience and Customs purposes. The written description of the scope of this proceeding is dispositive.

Analysis of Comments Received

All issues raised in the case and rebuttal briefs by parties to this administrative review are addressed in the “Issues and Decision Memorandum” (Decision Memorandum) dated concurrent with this notice which is hereby adopted by this notice. A list of issues which parties have raised and to which we have responded, all of which are in the Decision Memorandum, is attached to this notice as Appendix I. Parties can find a complete discussion of all issues raised in this review and the corresponding recommendations in this public memorandum which is on file in room B-099 of the Main Commerce Building. In addition, a complete version of the Decision Memorandum can be accessed directly on the World Wide Web at http://www.ia.ita.doc.gov, under the heading “Federal Register Notices.” The paper copy and electronic version of the Decision Memorandum are identical in content.

Changes Since the Preliminary Results

Based on our analysis of comments received, we have not made any changes to the subsidy rate calculations from the preliminary results.

Final Results of Review

In accordance with 19 CFR 351.221(b)(4)(i), we calculated an individual subsidy rate for each producer/exporter subject to this review. We will instruct the U.S. Customs Service (Customs) to assess countervailing duties as indicated below on all appropriate entries. For the period January 1, 1999, through December 31, 1999, we determine the net subsidy rates for the reviewed companies to be as follows:

Company | Ad valorem rate (percent)
Mehtabi | 3.68
Quality | 3.68
Fabrico | 3.68
Ejaz | 3.68
United | 6.60
R.I. | 6.60
Universal | 6.60
Shahi | 3.32
Ahmed | 3.32
Jawwad | 2.97
Silver | 10.24

We will instruct Customs to assess countervailing duties as indicated above. The Department will also instruct Customs to collect cash deposits of estimated countervailing duties in the percentages detailed above of the f.o.b. invoice price on all shipments of the subject merchandise from reviewed companies, entered, or withdrawn from warehouse, for consumption on or after the date of publication of the final results of this review.

Because the URAA replaced the general rule in favor of a country-wide rate with a general rule in favor of individual rates for investigated and reviewed companies, the procedures for establishing countervailing duty rates, including those for non-reviewed companies, are now essentially the same as those in antidumping cases, except as provided for in section 777A(e)(2)(B) of the Act. The requested review will normally cover only those companies specifically named. See 19 CFR 351.213(b). Pursuant to 19 CFR 351.212(c), for all companies for which a review was not requested, duties must be assessed at the cash deposit rate, and cash deposits must continue to be collected at the rate previously ordered. As such, the countervailing duty cash deposit rate applicable to a company can no longer change, except pursuant to a request for a review of that company. See Federal-Mogul Corporation and the Torrington Company v. United States, 822 F. Supp. 782 (CIT 1993); Floral Trade Council v. United States, 822 F. Supp. 766 (CIT 1993). Therefore, the cash deposit rates for all companies except those covered by this review will be unchanged by the results of this review.

We will instruct Customs to continue to collect cash deposits for non-reviewed companies at the most recent company-specific or country-wide rate applicable to the company. Accordingly, the cash deposit rates that will be applied to non-reviewed companies covered by this order will be the rate for that company established in the most recently completed administrative proceeding conducted under the Act, as amended by the URAA. If such a review has not been conducted, the rate established in the most recently completed administrative proceeding, pursuant to the statutory provisions that were in effect prior to the URAA amendments, is applicable. See Cotton Shop Towels From Pakistan: Final Results of Countervailing Duty Administrative Reviews, 62 FR 24082 (May 2, 1997). These rates shall apply to all non-reviewed companies until a review of a company assigned these rates is requested. In addition, for the period January 1, 1999, through December 31, 1999, the assessment rates applicable to all non-reviewed companies covered by this order are the cash deposit rates in effect at the time of entry.

This notice serves as a reminder to parties subject to administrative protective order (APO) of their responsibility concerning the disposition of proprietary information disclosed under APO in accordance with 19 CFR 351.305. Timely written notification of return/destruction of APO materials or conversion to judicial protective order is hereby requested. Failure to comply with the regulations and the terms of an APO is a sanctionable violation.

This administrative review and notice are in accordance with section 751(a)(1) of the Act (19 U.S.C. 1675(a)(1)).

Dated: August 7, 2001.
Faryar Shirzad,
Assistant Secretary for Import Administration.

Appendix I—Issues Discussed in Decision Memorandum

http://www.ia.ita.doc.gov, under the heading (“Federal Register Notices”).

Methodology and Background Information

I. Use of Facts Available

II. Analysis of Programs

A. Programs Conferring Subsidies

1. Export Finance Scheme

2. Sales Tax Rebate Program

3. Customs Duty Rebate Program

4. Income Tax Reduction on Export Income Program

III. Programs Determined To Be Not Used

A. Rebate of Excise Duty

B. Export Credit Insurance

C. Import Duty Rebates

IV. Total Ad Valorem Rate

V. Analysis of Comments

Comment 1—Income Tax Reduction on Export Income Program

Comment 2—Customs Duty Rebate Program

Comment 3—Sales Tax Rebate Program

[FR Doc. 01-20273 Filed 8-10-01; 8:45 am]

BILLING CODE 3510-DS-P